OFFICE OF MANAGEMENT AND BUDGET

Information Collection; Request for Public Comments

AGENCY: Office of Management and Budget, Executive Office of the President.

ACTION: Notice and request for comments.

SUMMARY: In compliance with the Paperwork Reduction Act of 1995 (44 U.S.C. 3501, et seq.), the Office of Management and Budget (OMB) invites the general public and Federal agencies to comment on a renewal of an information collection with revisions that would affect two types of entities: (1) The reports of auditors to auditees concerning audit results, audit findings, and questioned costs, and (2) reports from auditees to the Federal Government providing information about the auditees, the awards they administer, and the audit results. These collection efforts are required by the Single Audit Act Amendments of 1996 (31 U.S.C. 7501, et seq.) and OMB Circular A-133, “Audits of States, Local Governments, and Non-Profit Organizations.”

Included as part of this information collection is the Data Collection Form (SF-SAC). The changes being proposed are to modify the data elements collected on the SF-SAC to update the internal control terminology and related definitions used in OMB Circular A-133, “Audits of States, Local Governments, and Non-Profit Organizations,” the American Institute of Certified Public Accountants and the Government Accountability Office. The current Form SF-SAC is being used for audit periods ending in 2004, 2005, 2006 and 2007. A revised Form SF-SAC will be used for audit periods ending in 2008, 2009, and 2010.

Additionally, OMB is interested in receiving comments on the requirement to submit the Data Collection Form (SF-SAC) and the single audit reporting packages electronically. Currently, more than 87% of the SF-SAC are filed electronically. Electronic submission would streamline the submission process, reduce the administrative burden and satisfy the Bureau of Census to fully comply with the Government Paperwork Elimination Act (Pub. L. 105-277).

DATES: Submit comments on or before February 4, 2008. Late comments will be considered to the extent practicable.

ADDRESSES: Due to potential delays in OMB's receipt and processing of mail sent through the U.S. Postal Service, we encourage respondents to submit comments electronically to ensure timely receipt. We cannot guarantee that comments mailed will be received before the comment closing date.

Electronic mail comments may be submitted to: Gilbert Tran at hai_m._tran@omb.eop.gov. Please include “Form SF-SAC Comments” in the subject line and the full body of your comments in the text of the electronic message and not as an attachment. Please include your name, title, organization, postal address, telephone number, and e-mail address in the text of the message. Comments may also be submitted via facsimile to 202-395-3952.

Comments may be mailed to Gilbert Tran, Office of Federal Financial Management, Office of Management and Budget, Room 6025, New Executive Office Building, Washington, DC 20503.

Comments: All responses will be summarized and included in the request for OMB approval. All comments will also be a matter of public record.

FOR FURTHER INFORMATION CONTACT: Gilbert Tran, Office of Federal Financial Management, Office of Management and Budget, (202) 395-3052. The proposed revisions to the Information Collection Form, Form SF-SAC can be obtained by contacting the Office of Federal Financial Management as indicated above or by download from the OMB Grants Management home page on the Internet at http://www.whitehouse.gov/OMB/grants/grants_docs.html.

SUPPLEMENTARY INFORMATION:

OMB Control No.: 0348-0057.

Title: Data Collection Form.

Form No: SF-SAC.

Type of Review: Reinstatement with change.

Respondents: States, local governments, non-profit organizations (Non-Federal entities) and their auditors.

Estimated Number of Respondents: 72,000 (36,000 from auditors and 36,000 from auditees). The respondents' information is collected by the Federal Audit Clearinghouse (maintained by the U.S. Bureau of the Census).

Estimated Time per Respondent: 59 hours for each of 400 large respondents and 17 hours for each of 71,600 small respondents for estimated annual burden hours of 1,240,800.

Estimated Number of Responses per Respondent: 1.

Frequency of Response: Annually.

Needs and Uses: Reports from auditors to auditees and reports from auditees to the Federal government are used by non-Federal entities, pass-through entities, and Federal agencies to ensure that Federal awards are expended in accordance with applicable laws and regulations. The Federal Audit Clearinghouse (FAC) (maintained by the U.S. Bureau of the Census) uses the information on the SF-SAC to ensure proper distribution of audit reports to Federal agencies and identify non-Federal entities who have not filed the required reports. The FAC also uses the information on the SF-SAC to create a government-wide database which contains information on audit results. This database is publicly accessible on the Internet at http://harvester.census.gov/sac/. It is used by Federal agencies, pass-through entities, non-Federal entities, auditors, the Government Accountability Office, OMB, and the general public for management of and information about Federal awards and the results of audits. Comments are invited on: (a) Whether the proposed information collection is necessary for the proper performance of the functions of the agency, including whether the information shall have practical utility; (b) the accuracy of the estimate of the burden of the collection of the information; (c) ways to enhance the quality, utility, and clarity of the information to be collected; and (d) ways to minimize the burden of the collection of information on those who respond, including through the use of automated collection techniques or other forms of information technology.

Danny Werfel,
Acting Controller.

[FR Doc. E7-23540 Filed 12-4-07; 8:45 am]

BILLING CODE 3110-01-P